COMMISSION ON CIVIL RIGHTS

Agenda and Notice of Public Meeting of the Arizona Advisory Committee

Notice is hereby given, pursuant to the provisions of the rules and regulations of the U.S. Commission on Civil Rights, that a meeting of the Arizona Advisory Committee to the Commission will convene at 9:00 a.m. and adjourn at 5:00 p.m. on November 16, 2000, at the Courtyard by Marriott, 9631 North Black Canyon Highway, Phoenix, Arizona 85021. The purpose of the community forum is to hold a one day open meeting on civil rights issues in law enforcement and education.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, October 27, 2000.
Lisa M. Kelly,
Special Assistant to the Staff Director, Regional Programs Coordination Unit.

[FR Doc. 00-28065 Filed 11-1-00; 8:45 am]

BILLING CODE 6335-01-P